Proclamation 8232 of April 1, 2008

National Fair Housing Month, 2008

By the President of the United States of America

A Proclamation

During National Fair Housing Month, our Nation commemorates the 40th anniversary of the Fair Housing Act and reaffirms our dedication to maintaining equal access to housing for every American.

On April 11, 1968, President Lyndon B. Johnson signed the Fair Housing Act. This important legislation was one of a series of civil rights laws that sought to secure the rights of individuals and extend the full blessings of liberty to all Americans. The Fair Housing Act prohibits discrimination in the sale, rental, and financing of housing and, in doing so, furthers the ideals championed by Dr. Martin Luther King, Jr., and other heroes of the civil rights movement.

Our Nation has come a long way, yet our journey to justice is not complete. While the housing market works through this difficult period, my Administration remains steadfast in its commitment to help responsible homeowners, to end discrimination, and to work to ensure that all citizens have access to housing. During National Fair Housing Month, we acknowledge our responsibility to ensure that all Americans enjoy the opportunities that this great land of liberty offers.

NOW, THEREFORE, I, GEORGE W. BUSH, President of the United States of America, by virtue of the authority vested in me by the Constitution and laws of the United States, do hereby proclaim April 2008 as National Fair Housing Month. I call upon the people of the United States to learn more about their rights and responsibilities under the Fair Housing Act.

IN WITNESS WHEREOF, I have hereunto set my hand this first day of April, in the year of our Lord two thousand eight, and of the Independence of the United States of America the two hundred and thirty-second.

[FR Doc. 08-1101

Filed 4-2-08; 9:03 am]

Billing code 3195-01-P